SUSQUEHANNA RIVER BASIN COMMISSION

Projects Rescinded for Consumptive Uses of Water

AGENCY: Susquehanna River Basin Commission.

ACTION: Notice.

SUMMARY: This notice lists the approved by rule projects rescinded by the Susquehanna River Basin Commission during the period set forth in DATES.

DATES: June 1-30, 2017.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, being rescinded for the consumptive use of water pursuant to the Commission's approval by rule process set forth in 18 CFR 806.22(e) and § 806.22(f) for the time period specified above:

Rescinded Approvals by Rule Issued

1. WPX Energy Appalachia, LLC, Pad ID: M. Martin 1V, ABR-201007081.R1, Sugarloaf Township, Columbia County, Pa.; Rescind Date: June 22, 2017.

2. EOG Resources, Inc., Pad ID: PHC 10V, ABR-20090719.R1, Lawrence Township, Clearfield County, Pa.; Rescind Date: June 27, 2017.

3. EOG Resources, Inc., Pad ID: PHC Pad CC, ABR-201103027.R1, Lawrence Township, Clearfield County, Pa.; Rescind Date: June 27, 2017.

4. EOG Resources, Inc., Pad ID: PHC Pad DD, ABR-201103025.R1, Lawrence Township, Clearfield County, Pa.; Rescind Date: June 27, 2017.

5. Repsol Oil & Gas USA, LLC, Pad ID: DCNR 594 02 201, ABR-201008037.R1, Liberty Township, Tioga County, Pa.; Rescind Date: June 29, 2017.

Authority: Pub. L. 91-575, 84 Stat. 1509 et seq., 18 CFR parts 806, 807, and 808.

Dated: July 20, 2017.
Stephanie L. Richardson,
Secretary to the Commission.

[FR Doc. 2017-15609 Filed 7-25-17; 8:45 am]

BILLING CODE 7040-01-P